SOCIAL SECURITY ADMINISTRATION

New Agreement To Replace the Agreement Between the United States and Norway on Social Security; Entry Into Force

AGENCY: Social Security Administration.

ACTION: Notice.

SUMMARY: The Commissioner of Social Security gives notice that on September 1, 2003, a new agreement entered into force that replaces the original U.S.-Norwegian Social Security agreement that has been in effect since July 1, 1984. The new agreement, which was signed on November 30, 2001, was concluded pursuant to section 233 of the Social Security Act.

The new agreement updates and clarifies several provisions in the original U.S.-Norwegian Social Security agreement. Its primary purpose, however, is to permit U.S. citizens who have lived in Norway to receive full credit for their periods of residence under Norway's Social Security system and to increase thereby the amount of their Norwegian benefits. The new agreement also improves disability and survivors benefit protection under the Norwegian system for people who have worked in both countries.

Individuals who wish to obtain copies of the new agreement or want general information about its provisions may write to the Social Security Administration, Office of International Programs, Post Office Box 17741, Baltimore, Maryland 21235-7741. The Social Security Web site at http://www.socialsecurity.gov/international also includes the text of the new agreement. Anyone who wants information about the Norwegian Social Security programs may write to the National Insurance Administration, International Affairs Division, N-0241 Oslo, Norway.

Dated: October 29, 2003.
Jo Anne B. Barnhart,
Commissioner of Social Security.

[FR Doc. 03-27890 Filed 11-5-03; 8:45 am]

BILLING CODE 4191-02-P